DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before October 3, 2011.

ADDRESSES: You may submit your comments, identified by “docket number” on the subject line, by any of the following methods:

1. Electronic Mail: zzMSHA-comments@dol.gov. Include the docket number of the petition in the subject line of the message.

2. Facsimile: 202-693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist's desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Facsimile). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) That the application of such standard to such mine will result in a diminution of safety to the miners in such mine. In addition, the regulations at 30 CFR 44.10 and 44.11 establish the requirements and procedures for filing petitions for modification.

II. Petitions for Modification

Docket Numbers: M-2011-024-C, M-2011-025-C, and M-2011-026-C.

Petitioner: Amfire Mining Company, LLC, One Energy Place, Latrobe, Pennsylvania 15650. .

Mines: Ondo Mine, MSHA Mine I.D. No. 36-09005, located in Indiana County, Pennsylvania; Dora 8 Mine, MSHA I.D. No. 36-08704, located in Jefferson County, Pennsylvania; and Madison Mine, MSHA I.D. No. 36-09127, located in Cambria County, Pennsylvania.

Regulation Affected: 30 CFR 75.503 (Permissible electric face equipment; maintenance) and 30 CFR 18.35(a)(5)(i) (Portable (trailing) cables and cords).

Modification Request: The petitioner requests a modification of the existing standard to permit the use of extended trailing cables on the Mobile Bridge Conveyors, Dual Boom Roof Bolters, Continuous Miners, and Shuttle Cars. The petitioner states that these petitions will apply to: (1) Trailing cables that supply 995-Volt 3-Phase AC Current to Continuous Miners and Mobile Bridge Conveyors. Cable will have a 90 degree insulation rating; and (2) trailing cables that supply 480-Volt 3-Phase AC Current to Roof Bolters and Shuttle Cars. Additionally, the petitioner states that: (1) Extended length Trailing Cables used on Shuttle Cars and Roof Bolters will be 3-Conductor Round Cable, Type G-GC, Type G or Type G & GC. When a Type G-GC or Type G & GC Round Cable is used with wireless ground wire monitoring, the Ground Check Conductor will be connected as a Ground Conductor; (2) the maximum cable length of the Miner, Mobile Bridge Conveyors, Roof Bolters and Shuttle Cars will not exceed 1,000 feet. The trailing cable for the Miner will not be smaller than #2/0 American Wire Gauge (AWG). The trailing cable for the Roof Bolter and Shuttle Car will not be smaller than a #4 AWG, and the trailing cable for the Haulage unit will not be smaller than #2 AWG; (3) all circuit breakers used to protect the #4 AWG trailing cables exceeding the 600 feet in length will have Instantaneous Trip Units calibrated to trip at 500 amperes (Amps). The trip settings of these breakers will either be sealed or the breaker trip units will not be larger than 500 Amps. These circuit breakers will have permanent legible labels attached. The label will identify the circuit breaker as being suitable for protecting #4 AWG cables; (4) replacement breakers and/or Instantaneous Trip Units used to protect #4 AWG Cables will be calibrated to trip at 500 Amps and this setting will be sealed or Trip Units will not be larger than 500 Amps; (5) all circuit breakers used to protect #2 AWG cables exceeding 700 feet in length will have instantaneous trip units calibrated to trip at 800 Amps. The trip settings of these circuit breakers will be sealed and these circuit breakers will have permanent legible labels. The label will identify the circuit breaker as being suitable for protecting #2 AWG cables; (6) replacement circuit breakers and/or instantaneous trip units used to protect #2 AWG trailing cables will be calibrated to trip at 800 Amps and this setting will be sealed; (7) all circuit breakers used to protect #2/0 AWG trailing cables exceeding 850 feet in length will have instantaneous trip units calibrated to trip at 1500 Amps. The trip setting of these circuit breakers will be sealed or the maximum available setting on the trip units will not be greater than 1500 Amps. These circuit breakers will have permanent legible labels. The label will identify the circuit breaker as being suitable for protecting #2/0 AWG cables; (8) replacement breakers and/or instantaneous trip units used to protect #2/0 AWG trailing cables will be calibrated to trip at 1500 Amps and this setting will be sealed or the maximum size of the trip unit will be 1500 Amps; (9) all components that provide short circuit protection will have a sufficient interruption rating in accordance with the maximum calculated fault currents available; (10) during each production day, persons designated by the operator will visually examine the trailing cables to ensure the cables are in safe operating condition and that the instantaneous settings of the specially calibrated breakers do not have seals removed or tampered with and they do not exceed 500, 800 or 1500 Amps respectively; (11) any trailing cable that is not in a safe operating condition will be removed from service immediately and repaired or replaced; (12) each splice or repair in the trailing cables to the Miner, Mobile Bridge Conveyor, Roof Bolter or Shuttle Car will be made in a workmanlike manner and in accordance with the instructions of the manufacturer of the splice or repair materials. The splice or repair will comply with 30 CFR 75.603 and 75.604; (13) permanent warning labels will be installed and maintained on the cover or covers of the power center identifying the location of each sealed short circuit protective drive. These labels will warn miners not to change or alter these sealed short circuit settings; (14) in the event the mining methods or operating procedures cause or contribute to the damage of any trailing cable, the cable will be removed from service immediately and repaired or replaced. Additional precautions will be taken to ensure that haulage roads and trailing cable storage areas are situated to minimize contact of the trailing cable with the Continuous Miner, Mobile Bridge Conveyor, Shuttles Cars and Roof Bolters. Trailing cables, anchors or cable reel equipment will be of the permanent type that minimizes the tensile forces on the trailing cables; (15) where the method of mining would require that trailing cables cross roadways or haulage ways, the cables will be securely supported from the mine roof or a substantial bridge for equipment to pass over the cables will be provided and used; (16) excess cable will be stored behind the anchor or anchors on equipment that use cable reels to prevent the cables from overheating; (17) this change will not be implemented until this petition for modification is approved and all miners who will be responsible for examining the cables and associated electrical components have been trained on the contents and precautions included in the petition; and (18) proposed revisions for the approved Part 48 training plan will specify task training and will be submitted to the District Manager for the areas for which the mines are located. The training will include: (a) The hazards of setting the short circuit interrupting device or devices too high to adequately protect the trailing cables; (b) how to verify that the circuit interrupting devices protecting the trailing cables are properly set and maintained; (c) mining methods and operating procedures that will protect the trailing cables from damage; (d) how to protect the trailing cables against damage caused by overheating cables due to excessive cable stored on reels and adjusting stored cable behind cable anchors as tramming distances change; and (e) proper procedures for examining the trailing cable to ensure the cables are in safe operating condition by a visual inspection of the entire cable, observing the insulation, the integrity of splices, and nicks and abrasions. The petitioner further states that if regulations are subsequently promulgated that supersede the requirements of 30 CFR 75.503 and 18.35(a)(5)(i), the revised standard will be applied at the mine unless it is determined by the Secretary or his representative that the alternative method contained in the petition will at all times guarantee no less than the same measure of protection afforded the subsequent revised standard. The petitioner asserts that the proposed alternative method will provide for a level of safety equal to or greater than the statute in place.

Docket Number: M-2011-027-C.

Petitioner: Midland Trail Energy, LLC, 3301 Point Lick Drive, Charleston, West Virginia 25306.

Mine: Blue Creek No. 1 Deep Mine, MSHA Mine I.D. No. 46-09297, located in Kanawha County, West Virginia.

Regulation Affected: 30 CFR 75.1700 (Oil and gas wells).

Modification Request: The petitioner requests a modification of the existing standard to plug and subsequently encroach within the 300-foot safety barrier, as dictated in the statute, up to and including mining through the gas and/or oil well. The petitioner proposes to use the following procedures for plugging oil and gas wells: (1) A safety barrier of 300 feet in diameter (150 feet in radius from the center of the well casing on the surface) will be maintained around all oil and gas wells until written approval to proceed within this barrier has been obtained from the District Manager (DM). The petitioner will make clear in each application to mine within the safety barrier whether the well has been plugged or not as well as whether or not the mining process intends to intercept the well. This plugging process will be utilized when encroachment on a well is greater than would normally be approved by the DM. (2) A diligent effort will be made to clean the wellbore to the original total depth. If this depth cannot be reached, the borehole will be cleaned out to a depth that would permit the placement of at least 200 feet of expanding cement below the base of the lowest mineable coal bed. A mineable coal bed is defined as having a thickness of at least 24 inches of coal. During the clean out process, a diligent effort will be made to remove as much extraneous material such as sediment, rust, trash, and hydrocarbon residue as practical. With respect to the outer walls of the wellbore, directing high pressure water jets at such will satisfy this requirement. (3) When cleaning out the borehole, a diligent effort will be made to remove all casing within the borehole. If it is not possible to remove all casing, the remaining casing will be perforated or ripped in such a manner and at such intervals as to permit expanding cement slurry to infiltrate the annulus between the casing and the wellbore wall for a distance of at least 200 feet below the base of the lowest mineable coal seam. From 10 feet below to 10 feet above the lowest mineable coal seam, any casing that remains in the borehole will be continuously perforated or ripped. A continuous perforation will be defined as a minimum of 4 shots at intervals no greater than 12 inches apart. Excluding the zone within the proximity of the lowest mineable coal seam, any casing that remains will be perforated or ripped at intervals not to exceed 50 feet from at least 200 feet below the lowest mineable coal seam to not less than 100 feet above the highest coal seam or the surface, whichever is less. When remaining casing is perforated, a minimum of 4 shots will be detonated at each location. Where ripping is performed, a minimum of one 3-foot long rip will be made at each location. As an alternative, a casing bonding log may be performed to demonstrate that all annuli are adequately sealed with cement to a depth of at least 200 feet below the lowest mineable coal seam. If the casing bonding log does not continue to the original total depth of the wellbore, the casing will be continuously perforated for a distance of at least 20 feet beginning at the deepest point of the casing bonding log and continuing towards the surface. Wherein multiple casing and tubing strings exist within a wellbore, each string will be perforated or ripped or, as an alternative, have an acceptable casing bonding log performed demonstrating each annulus within the borehole has been adequately sealed with cement. (4) A suite of logs, including geophysical, caliper, and directional deviation survey, will be performed on the borehole to a depth not less than was attainable during the cleanout process. These logs will be suitable for determining the top and bottom elevations of mineable coal seams as well as potential hydrocarbon producing stratum. These logs may be completed before or after the removal of the casing based on the condition of the wellbore prior to the removal of the casing and the anticipated condition of the wellbore after removal provided the geophysical instrumentation used can accurately detect the aforementioned stratum through the casing. The information gained from these logs will be used to determine the location for placement of the mechanical bridge plug or its alternative. (5) Pursuant to the cleanout of the well, a mechanical bridge plug will be installed in the borehole at a depth of not less than 200 feet below the base of the lowest mineable coal seam. The plug will be set in competent stratum and above the top of the uppermost hydrocarbon-producing stratum. Wherein casing remains in the well, the plug will be installed in a section of competent casing that has not been perforated or ripped. If it is not possible to set a mechanical bridge plug, a packer or substantial brush plug may be used in place of the mechanical bridge plug. (6) If the top of the uppermost hydrocarbon-producing stratum is within 200 feet of the base of the lowest mineable coal seam, an initial mechanical bridge plug or alternative will be placed at a depth of no less than 200 feet below the base of the lowest mineable coal seam. The borehole will then be filled with an expanding cement plug to the top of the uppermost hydrocarbon-producing stratum wherein a second mechanical bridge plug or alternative will be installed. The remaining portion of the borehole from the top of the second mechanical bridge plug to the base of the lowest mineable coal seam will then be filled with expanding cement. No less than 200 feet of expanding cement will be placed in the borehole below the lowest mineable coal seam. (7) The wellbore will be completely filled and circulated with a gel that inhibits the flow of gas, supports the walls of the borehole, and increases the density of the expanding cement. This gel will be pumped through tubing that extends to within 20 feet above the bottom of the cleaned out area of the bridge plug. (8) An expanding cement plug will be set in the wellbore by pumping expanding cement slurry down the tubing such that it displaces the gel towards the surface. This expanding cement plug will extend from a minimum of 200 feet below the lowest mineable coal seam to at least 100 feet above the lowest mineable coal seam. From 100 feet above the lowest mineable coal seam to the surface, the borehole may be filled with either expanding cement slurry, Portland cement, or a Portland cement-fly ash mixture. When Portland cement or a Portland cement-fly ash mixture is substituted for the portion of the borehole between 100 feet above the lowest mineable coal seam and the surface, the expanding cement plug will be allowed to cure for at least 24 hours prior to placement of the alternative above it to the surface. (9) Upon plugging the well to the surface, a small quantity of steel turnings or other magnetic particles will be embedded in the cement to serve as a permanent magnetic monument. Other identification methods may be used provided that relocation of the well by magnetic methods is not compromised. (10) A diligent effort will be made to provide at least 14 days written notice to the DM, the appropriate State agency, and where applicable, the miners' representative, of the petitioner's intent to mine within the safety barrier at a distance less than would normally be approved by the DM under the existing standard or to mine through a plugged well. When events happen that may affect the mining process, a minimum of 48 hours of written notice will be provided by the petitioner so that each party will have the opportunity to have a representative present. (11) A representative of the operator, a representative of the miners (where applicable), the appropriate State agency, or the DM or designee may request that a conference be conducted prior to mining through any plugged well. (12) Mining through a plugged well will be done on a shift approved by the DM or designee. (13) Drivage sights or “spads” will be installed no greater than 50 feet from the projected intersection of the well. The section foreman and continuous miner operator will be provided a map at a scale no greater than 1 inch = 50 feet indicating the proximity of the well at the coal seam elevation with respect to the projected workings. (14) A continuous centerline will be painted on the mine roof extending from the drivage sights to the face prior to mining within 50 feet of a plugged well. This centerline will be maintained in all entries and crosscuts within 50 feet of the well until the well has been intersected or mining is no longer occurring within 50 feet of the plugged well, whichever comes first. (15) Prior to mining within 50 feet of a plugged well, the active section will be thoroughly rock-dusted such that at least 80 percent incombustible material is achieved. This will be maintained within 20 feet of the active face and reestablished after each cut has been taken until the well has been intercepted or mining is no longer occurring within 50 feet of the well. The active working place will be kept free from accumulations of coal dust and coal spillage until mining within this zone has been completed or the well has been mined through. (16) A minimum of two 20-pound fire extinguishers and 240 pounds of rock dust will be maintained in the area of mining when mining within 50 feet of a plugged well. An independent fire hose sufficient in length to reach the working face will be maintained in the last open crosscut or room. All fire hoses will be connected to a water supply and fully charged and ready for operation. (17) Sufficient supplies of roof support and ventilation materials will be available and located in the last open crosscut or room. At least two emergency plugs and two 100-ton or greater roof jacks conforming to the seam height will be made available in the immediate area of mining. (18) When mining within 50 feet of a plugged well and during the mine-through of a well, at least 9,000 cubic feet of air per minute or as required by the approved mine ventilation plan, whichever is greater, will be delivered to the working place. (19) All equipment operated within 50 feet of a plugged well, including mining through a well, will be checked for permissibility and serviced on the shift prior to operating within the 50-foot zone. Methane detectors on continuous mining machines operating within the 50-foot radius of a plugged well will be calibrated on the shift prior to operating in this zone. (20) When mining within 50 feet of a well, tests for methane will be made at least every 10 minutes while continuous mining and roof bolting activities are being conducted. These tests for methane will be made prior to the start of any continuous mining or roof bolting activity within this zone until the mine-through is complete or continuous mining and/or roof bolting activity is being performed greater than 50 feet from the well. (21) When the wellbore has been intercepted, all equipment in the working place will be deenergized and the place thoroughly examined and determined safe before mining is resumed. If it is determined that the working place is safe and casing is present, equipment will be reenergized so that the working face can be squared up sufficient to facilitate bolting of the roof as close as possible to the wellbore without disturbing the casing. Subsequent to roof bolting, temporary brattice will be installed so that sufficient airflow is moving across the casing. All well casing in the mined cavity will be removed and no open flame will be permitted in the working place until the temporary brattice and sufficient ventilation have been established. (22) After the borehole has been intercepted, the working area has been determined safe, and, where applicable, casing has been removed, mining may continue inby the well at a distance sufficient to permit adequate ventilation around the area of the wellbore. (23) When mining within 50 feet of a plugged well or during a mine-through, no persons except those actively engaged in the operation, company personnel, representatives of the miners (where applicable), MSHA personnel, and personnel from the appropriate State agency will be permitted in the active mining area. (24) All operations conducted within 50 feet of a plugged well, including the mine-through process itself, will be conducted under the supervision of a certified official. Instructions issued during mining operations in this zone will be issued only by the certified official. (25) A plugging affidavit will be filed with MSHA and where applicable, the appropriate State agency. The affidavit will detail the persons who participated in the plugging of the well, a description of the plugging work including the methods and materials used, and a certification by a Professional Engineer that the well has been plugged. The petitioner further states that within 60 days of this plan being approved, proposed revisions to its Part 48 training plan will be submitted to the DM. The proposed revisions will detail initial and annual refresher training regarding the details of this plan. In addition, the petitioner asserts that the proposed alternative method will provide no less than the degree of safety than would be afforded the miners under the existing standard.

Dated: August 29, 2011.
Patricia W. Silvey,
Certifying Officer.

[FR Doc. 2011-22489 Filed 9-1-11; 8:45 am]

BILLING CODE 4510-43-P